DEPARTMENT OF AGRICULTURE

Office of Partnerships and Public Engagement

Advisory Committee on Beginning Farmers and Ranchers (ACBFR)

ACTION: Public meeting of the Advisory Committee on Beginning Farmers and Ranchers.

SUMMARY: Pursuant to the rules and regulations of the Department of Agriculture (USDA) and the Federal Advisory Committee Act, the Advisory Committee; the purpose of the Advisory Committee on Beginning Farmers and Ranchers meeting is to advice the Secretary on matters concerning beginning farmers and ranchers including but not limited to, the following: The development of the program of coordinated assistance to qualified beginning farmers and ranchers under section 309(i) of the Consolidated Farm and Rural Development Act; methods of maximizing the number of new farming and ranching opportunities created through the program; methods of encouraging States to participate in the program; the administration of the program; and other methods of creating new farming or ranching opportunities.

DATES: Wednesday, June 2, 2021, 1:00 p.m. to 5:00 p.m. (Eastern Time Zone) and Thursday, June 3, 2021, 1:00 p.m. to 5:00 p.m. (Eastern Time Zone).

ADDRESSES: Virtual; The most up-to-date agenda details and documents will be made available at: https://www.usda.gov/partnerships/advisory-committee-on-beginning-farmers-and-ranchers.

FOR FURTHER INFORMATION CONTACT: Maria Goldberg, Designated Federal Officer, Office of Partnerships and Public Engagement (OPPE), 202-720-6350, or email: maria.goldberg@usda.gov.

SUPPLEMENTARY INFORMATION: Public participation will be limited to written statements and interested parties who have registered to present comments orally to the Advisory Committee. Written comments may be submitted to email address: ACBeginningFarmersandRanchers@usda.gov. Written comments must be received by OPPE within 15 days after the scheduled meeting. If interested in presenting comments orally, please contact Maria Goldberg at the telephone or email address listed above. Opportunities to provide oral comments will be given in the order the requests to speak are received. The meeting will be open to the public.

Accommodations: USDA is committed to ensuring that all persons are included in our programs and events. Please contact Maria Goldberg, 202-720- 6350 or email: maria.goldberg@usda.gov, if you require reasonable accommodations to participate in this meeting.

Dated: May 6, 2021.
Cikena Reid,
USDA Committee Management Officer.

[FR Doc. 2021-10198 Filed 5-13-21; 8:45 am]

BILLING CODE 3412-88-P